DEPARTMENT OF THE INTERIOR

National Park Service

[2253-665]

Notice of Inventory Completion: Wisconsin Historical Society, Museum Division, Madison, WI

AGENCY: National Park Service, Interior.

ACTION: Notice.

Notice is here given in accordance with the Native American Graves Protection and Repatriation Act (NAGPRA), 25 U.S.C. 3003, of the completion of an inventory of human remains in the possession of the Wisconsin Historical Society, Museum Division, Madison, WI. The human remains were removed from Taylor County, WI.

This notice is published as part of the National Park Service's administrative responsibilities under NAGPRA, 25 U.S.C. 3003(d)(3). The determinations in this notice are the sole responsibility of the museum, institution, or Federal agency that has control of the Native American human remains. The National Park Service is not responsible for the determinations in this notice.

A detailed assessment of the human remains was made by Wisconsin Historical Society staff in consultation with representatives of the Bad River Band of the Lake Superior Tribe of Chippewa Indians of the Bad River Reservation, Wisconsin; Forest County Potawatomi Community, Wisconsin; Lac Courte Oreilles Band of Lake Superior Chippewa Indians of Wisconsin; Lac du Flambeau Band of Lake Superior Chippewa Indians of the Lac du Flambeau Reservation of Wisconsin; Red Cliff Band of Lake Superior Chippewa Indians of Wisconsin; St. Croix Chippewa Indians of Wisconsin; and the Sokaogon Chippewa Community, Wisconsin.

In 1966, human remains representing a minimum of one individual were removed from Indian Farms [47-Ta-0018], in Taylor County, WI. On July 17, 1966, archeologists from the Wisconsin Historical Society visited Indian Farms to investigate a report of recent looting. The archeologist contacted local law enforcement and recovered the fragmentary remains of a child found on the ground surface. The fragmentary remains were brought back to the Wisconsin Historical Society. No known individual was identified. No associated funerary objects are present.

In 1966, the Indian Farms site was owned in part by the United States Forest Service and also in private ownership. While the exact location of the burial cannot be conclusively determined, it is believed the grave had been looted from a cemetery located on private land. The Indian Farms site consists of two close, but spatially separated communities referred to as Big and Little Indian Farms. Although a prehistoric component is present, most of the remains are attributed to a circa 1896-1908 occupation by a group of Potawatomi and Ojibwe, which are now represented by the Forest County Potawatomi Community, Wisconsin.

Officials of the Wisconsin Historical Society, Museum Division, have determined, pursuant to 25 U.S.C. 3001(9), that the human remains described above represent the physical remains of one individual of Native American ancestry. Officials of the Wisconsin Historical Society, Museum Division, also have determined, pursuant to 25 U.S.C. 3001(2), that there is a relationship of shared group identity that can be reasonably traced between the Native American human remains and the Forest County Potawatomi Community, Wisconsin.

Representatives of any other Indian tribe that believes itself to be culturally affiliated with the human remains should contact Jennifer Kolb, Wisconsin Historical Museum, 30 North Carroll St., Madison, WI 53703, telephone (608) 261-2461, before December 16, 2010. Repatriation of the human remains to the Forest County Potawatomi Community, Wisconsin, may proceed after that date if no additional claimants come forward.

The Wisconsin Historical Society, Museum Division, is responsible for notifying the Bad River Band of the Lake Superior Tribe of Chippewa Indians of the Bad River Reservation, Wisconsin; Forest County Potawatomi Community, Wisconsin; Lac Courte Oreilles Band of Lake Superior Chippewa Indians of Wisconsin; Lac du Flambeau Band of Lake Superior Chippewa Indians of the Lac du Flambeau Reservation of Wisconsin; Red Cliff Band of Lake Superior Chippewa Indians of Wisconsin; St. Croix Chippewa Indians of Wisconsin; and the Sokaogon Chippewa Community, Wisconsin, that this notice has been published.

Dated: November 5, 2010.
Sherry Hutt,
Manager, National NAGPRA Program.

[FR Doc. 2010-28745 Filed 11-15-10; 8:45 am]

BILLING CODE 4312-50-P